POSTAL SERVICE

International Product Change—Global Reseller Expedited Package Contracts

AGENCY: Postal Service™.

ACTION: Notice.

SUMMARY: The Postal Service gives notice of filing a request with the Postal Regulatory Commission for classification changes to the Global Reseller Expedited Package Contracts subsection in the Competitive Product List in the Mail Classification Schedule.

DATES: Effective date: November 21, 2022.

FOR FURTHER INFORMATION CONTACT: Christopher C. Meyerson, 202-268-7820.

SUPPLEMENTARY INFORMATION: The United States Postal Service® hereby gives notice that, pursuant to 39 CFR 3040.180, on November 10, 2022, it filed with the Postal Regulatory Commission a Request of the United States Postal Service for Classification Changes Concerning Global Reseller Expedited Package Contracts to remove references to Priority Mail International Regional Rate Boxes from the Global Reseller Expedited Package Contracts subsection in the Mail Classification Schedule. Documents are available at www.prc.gov, Docket No. MC2023-46.

Sarah Sullivan,
Attorney, Ethics and Legal Compliance.

[FR Doc. 2022-25297 Filed 11-18-22; 8:45 am]

BILLING CODE 7710-12-P